DEPARTMENT OF AGRICULTURE

Forest Service

36 CFR Part 294

Public Meeting to Receive Comments on the Proposed Rule for the Management of Roadless Areas in the State of Idaho

AGENCY: Forest Service, USDA.

ACTION: Notice of meeting.

SUMMARY: There will be a public meeting in Washington, DC to discuss the proposed rule for the management of roadless areas on National Forest System lands in the State of Idaho.

DATES: The meeting will be held January 14, 2008, from 5 p.m. to 10 p.m.

ADDRESSES: The meeting will be held at the United States Department of Agriculture, South Building, Jefferson Auditorium, 1400 Independence Avenue, SW., Washington, DC. Comments on the proposed rule may be sent via e-mail to IDcomments@fsroadless.org. Comments also may be submitted via the world wide web/Internet at http://www.regulations.gov. Written comments concerning this notice should be addressed to Roadless Area Conservation-Idaho, P.O. Box 162909, Sacramento, CA 95816-2909, or via facsimile to 916-456-6724. All comments, including names and addresses, when provided, are placed in the record and are available for public inspection and copying. The public may inspect comments received at http://roadless.fs.fed.us.

FOR FURTHER INFORMATION CONTACT: Brad Gilbert, Idaho Roadless Rule Team Leader, at (208) 765-7438.

Individuals using telecommunication devices for the deaf (TDD) may call the Federal Information Relay Service (FIRS) at 1-800-877-8339 between 8 a.m. and 8 p.m. Eastern Standard Time, Monday through Friday.

SUPPLEMENTARY INFORMATION: Attendees wishing to comment orally will be allotted three minutes to speak on a first come, first served basis. Meeting attendees will need to pass through USDA security in order to enter the building. To ensure arriving to the meeting on time, attendees are encouraged to arrive at the USDA South Building before 5 p.m. You will need photo identification to enter the building.

Attendees are encouraged to provide their names to security prior to the meeting in order to gain quicker access to the building. Attendees can submit their names to a comment line by calling 202-205-1776. In the message you should identify yourself as wanting to attend the public meeting on the Idaho rule, and then both say and spell your name. Names should be submitted by close of business on January 10, 2008. Any bags that attendees bring will have to go through screening; you are therefore encouraged not to bring bags in order to speed up the screening process.

A copy of the proposed rule, draft environmental impact statement (DEIS), the DEIS summary, dates for public meetings in Idaho, and other information related to this rulemaking will be available at the national roadless Web site http://www.roadless.fs.fed.us as well as by calling Brad Gilbert, Idaho Roadless Rule Team Leader, at (208) 765-7438. Reviewers may request printed copies or compact disks of the DEIS and the summary by writing to the Rocky Mountain Research Station, Publication and Distribution, 240 West Prospect Road, Fort Collins, CO 80526-2098. Fax orders will be accepted at 970-498-1122. Order by e-mail from rschneider@fs.fed.us. When ordering, requesters must specify if they wish to receive the summary or full set of documents and if the material should be provided in print or on disk.

Dated: December 20, 2007.
Anne J. Zimmerman,
Acting Associate Deputy Chief, NFS.

[FR Doc. E7-25135 Filed 12-27-07; 8:45 am]

BILLING CODE 3410-11-P